DEPARTMENT OF TRANSPORTATION

National Highway Traffic Safety Administration

[Docket No. NHTSA-2014-0081]

Reports, Forms and Record Keeping Requirements Agency Information Collection Activity Under OMB Review

AGENCY: National Highway Traffic Safety Administration, DOT.

ACTION: Notice and request for comments.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden.

DATES: Comments must be submitted on or before February 12, 2015.

ADDRESSES: Send comments to the Office of Information and Regulatory Affairs, Office of Management and Budget, 725 17th Street NW., Washington, DC 20503, Attention: NHTSA Desk Officer.

FOR FURTHER INFORMATION CONTACT: For additional information or access to background documents, contact Charlene Doyle, Office of Regulatory Analysis and Evaluation, National Highway Traffic Safety Administration, 1200 New Jersey Avenue SE., NVS-431, Washington, DC 20590. Ms. Doyle's phone number is 202-366-1276.

SUPPLEMENTARY INFORMATION: Before a Federal agency can collect certain information from the public, it must receive approval from the Office of Management and Budget (OMB). In compliance with these requirements, this notice announces that the following information collection request has been forwarded to OMB. A Federal Register notice requesting comments on the following information collection was published on July 7, 2014 (79 FR 38358). The agency received no comments on that notice.

Title: Tire Pressure Monitoring System—Outage Rate and Repair Costs (TPMS-ORRC).

OMB Number: 2127-0626.

Type of Request: Reinstatement, with change, of a previously approved collection for which approval has expired.

Abstract: Improperly inflated tires pose a safety risk, increasing the chance of skidding, hydroplaning, longer stopping distances, and crashes due to flat tires and blowouts. In an effort to decrease the number of vehicles with improperly inflated tires, Tire Pressure Monitoring Systems (TPMS) were mandated in Federal Motor Vehicle Safety Standard (FMVSS) No. 138, so that drivers are warned when the pressure in one or more of the vehicle's tires has fallen to 25 percent or more below the placard pressure, or a minimum level of pressure specified in the standard, whichever pressure is higher. Executive Order 12866 requires Federal agencies to evaluate their existing regulations and programs and measure their effectiveness in achieving their objectives. Since the phase-in of TPMS, there has been only one evaluation of TPMS. This evaluation, the TPMS-SS (OMB #2127-0626), was conducted in 2011 as a special study through the infrastructure of the National Automotive Sampling System, to collect nationally representative data on how effective TPMS was in reducing underinflation in the on-road fleet of passenger vehicles. Analysis of the survey results indicated that direct TPMS is 55.6-percent effective at preventing severe underinflation as defined in FMVSS No. 138. However, effectiveness was substantially lower in vehicles that were 6-7 years old at the time of the survey. The purpose of this survey, Tire Pressure Monitoring System—Outage Rate and Repair Costs (TPMS-ORRC), is to examine why the effectiveness of TPMSs in older vehicles is reduced and what can be done to increase it. In contrast to previous research on TPMS, this information collection request represents a more comprehensive investigation of TPMS systems by engaging the general public, suppliers, and professional establishments involved in TPMS repair. This robust investigation will address key questions concerning the operational status of TPMS systems, consumers' attendant knowledge, attitudes, and awareness of TPMS systems, and the causes and costs of TPMS system malfunction.

Affected Public: Individuals and businesses.

Estimated Total Annual Burden: 1,354 hours.

Comments are invited on: Whether the proposed collection of information is necessary for the proper performance of the functions of the Department, including: Whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended and 49 CFR 1.95.

Terry T. Shelton,
Associate Administrator, National Center for Statistics and Analysis.

[FR Doc. 2015-00304 Filed 1-12-15; 8:45 am]

BILLING CODE 4910-59-P